DEPARTMENT OF ENERGY

[OE Docket No. PP-362]

Application for Presidential Permit; Champlain Hudson Power Express, Inc.

AGENCY: Office of Electricity Delivery and Energy Reliability, DOE.

ACTION: Notice of application.

SUMMARY: Champlain Hudson Power Express, Inc. (CHPEI) has applied for a Presidential permit to construct, operate, maintain, and connect an electric transmission line across the United States border with Canada.

DATES: Comments, protests, or requests to intervene must be submitted on or before April 5, 2010.

ADDRESSES: Comments, protests, or requests to intervene should be addressed as follows: Dr. Jerry Pell, Office of Electricity Delivery and Energy Reliability (OE-20), U.S. Department of Energy, 1000 Independence Avenue, SW., Washington, DC 20585.

FOR FURTHER INFORMATION CONTACT: Dr. Jerry Pell (Program Office) at 202-586-3362 or via electronic mail at Jerry.Pell@hq.doe.gov, or Lot H. Cooke (Attorney-Adviser) at 202-586-0503 or via electronic mail at Lot.Cooke@hq.doe.gov.

SUPPLEMENTARY INFORMATION: The construction, operation, maintenance, and connection of facilities at the international border of the United States for the transmission of electric energy between the United States and a foreign country is prohibited in the absence of a Presidential permit issued pursuant to Executive Order (EO) 10485, as amended by EO 12038.

On January 27, 2010, CHPEI filed an application with the Office of Electricity Delivery and Energy Reliability of the Department of Energy (DOE) for a Presidential permit. CHPEI is a joint venture of TDI-USA Holdings Corporation (TUHC), a Delaware corporation, and National Resources Energy, LLC (NRE). TUHC, the majority shareholder in CHPEI, is a wholly owned subsidiary of Transmission Developers Inc. (TDI), a Canadian Corporation. NRE is a wholly owned subsidiary of National RE/sources Group, a limited liability corporation duly organized under the laws of the State of Connecticut.

CHPEI proposes to construct and operate a primarily underground and submarine high-voltage direct current (HVDC) electric transmission line that will originate at an HVDC converter station in Quebec, Canada, and ultimately terminate in Yonkers, New York, and Bridgeport, Connecticut.

The proposed CHPEI project (the “Project”) would be a 2,000-megawatt (MW) HVDC Voltage Source Converter (VSC) controllable transmission system, comprising two 1,000-MW HVDC bipoles, each of which would include two submarine or underground cables connected as a bipole pair. Each bipole will at all times utilize its partner in the bipole pair as a metallic return. The ground will never be used as a return. In total, four cables would be laid between Quebec and the converter stations in New York City, where two will be terminated. The remaining two would continue to Bridgeport, Connecticut.

From the U.S.-Canada border, the submarine transmission cables would be routed through Lake Champlain and travel south to the northern entrance of the Champlain Canal, near Whitehall, New York. To the extent practicable, the submerged cables would continue through the Champlain Canal to Fort Edward, where the canal joins the Hudson River. CHPEI expects that the transmission cables would exit the Champlain Canal near Lock C8, and the cables would be buried within a railroad ROW for a distance of approximately 69.9 miles (107.7 km). The cables would re-enter the Hudson River near the Town of Coeymans, downstream from the City of Albany, N.Y. South of Coeymans, the proposed alignment follows the Hudson River to the New York City metropolitan area.

Two cables (one bipole) would terminate approximately 318.7 miles (512.9 km) south of the U.S.-Canada border at an HVDC converter station near Wells Avenue in Yonkers, New York. The remaining two cables would continue along the Hudson River to the entrance of Spuyten Duyvil Creek, and then follow a 65.8-mile-long (105.9 km) route through Spuyten Duyvil Creek, the Harlem River, and the East River into Long Island Sound before terminating at a converter station near 1 W Avenue in Bridgeport, Connecticut.

Submarine or underground alternating current (AC) cables would transmit electricity from the converter stations to existing substations connected to the electrical grid. From the Yonkers converter station, 345-kV AC cables would re-enter the Hudson River and travel south along the East River, Spuyten Duyvil Creek, and the Harlem River for a distance of approximately 6.7 miles (10.8 km). The AC cables would terminate at the existing Consolidated Edison (ConEd) Sherman Creek/Academy substation, near the intersection of West 201st Street and 9th Street, in Manhattan.

From the Bridgeport converter station, 345-kV AC cables would extend for a distance of approximately 150 feet (45.7 m) to the existing Singer substation, owned and operated by the United Illuminating Company.

The applicant represents that the Project's precise final route would be subject to a number of factors, including resource issues, permitting, land acquisition, and stakeholder agreement. The 384.5-mile-long (618.8 km) portion of the Project located within the United States would be owned and operated by the applicant.

Since the restructuring of the electric industry began, resulting in the introduction of different types of competitive entities into the marketplace, DOE has consistently expressed its policy that cross-border trade in electric energy should be subject to the same principles of comparable open access and non-discrimination that apply to transmission in interstate commerce. DOE has stated that policy in export authorizations granted to entities requesting authority to export over international transmission facilities. Specifically, DOE expects transmitting utilities owning border facilities to provide access across the border in accordance with the principles of comparable open access and non-discrimination contained in the Federal Power Act and articulated in Federal Energy Regulatory Commission (FERC) Order No. 888 (Promoting Wholesale Competition Through Open Access Non-Discriminatory Transmission Services by Public Utilities; FERC Stats. & Regs. ¶ 31,036 (1996)), as amended. In furtherance of this policy, DOE invites comments on whether it would be appropriate to condition any Presidential permit issued in this proceeding on compliance with these open access principles.

Procedural Matters: Any person desiring to become a party to this proceeding or to be heard by filing comments on, or protests to, this application should file a petition to intervene, comment, or protest at the address provided above in accordance with §§ 385.211 or 385.214 of FERC's Rules of Practice and Procedures (18 CFR 385.211, 385.214). Fifteen copies of each petition and protest should be filed with DOE on or before the date listed above.

Additional copies of such petitions to intervene, comments, or protests should also be filed directly with Mr. Donald Jessome, President, Transmission Developers Inc., Pieter Schuyler Building, 600 Broadway, Albany, New York 12207-2283.

Before a Presidential permit may be issued or amended, DOE must determine that the proposed action is in the public interest. In making that determination, DOE considers the environmental impacts of the proposed project pursuant to the National Environmental Policy Act of 1969, determines the project's impact on electric reliability by ascertaining whether the proposed project would adversely affect the operation of the U.S. electric power supply system under normal and contingency conditions, and any other factors that DOE may also consider relevant to the public interest. Also, DOE must obtain the concurrences of the Secretary of State and the Secretary of Defense before taking final action on a Presidential permit application.

Copies of this application will be made available, upon request, for public inspection and copying at the address provided above, by accessing the program Web site at http://www.oe.energy.gov/permits_pending.htm, or by emailing Odessa Hopkins at Odessa.hopkins@hq.doe.gov.

Issued in Washington, DC, on February 23, 2010.
Anthony J. Como,
Director, Permitting and Siting, Office of Electricity Delivery and Energy Reliability.

[FR Doc. 2010-4677 Filed 3-4-10; 8:45 am]

BILLING CODE 6450-01-P